DEPARTMENT OF HEALTH AND HUMAN SERVICES

Centers for Disease Control and Prevention

[30DAY-06-01]

Agency Forms Undergoing Paperwork Reduction Act Review; Correction

A notice announcing Jail STD Prevalence Monitoring System was published in the Federal Register on November 6, 2000, (65 FR 66546). This notice is a correction.

On page 66546, in the third column of the notice, the last line of the last paragraph, the burden hours should be changed from 1248 to 3296.

On page 66546, at the end of the notice, the burden table should be replaced with the following table:

Respondents | No. of respondents | Avg. No. of forms/respondent | No. of responses/respondent | Avg. burden/response (in hrs.)
State/local health departments |  | 4 datasets/year |  |
A. With access to electronic data | A. 8 health departments |  | A. 3/dataset | A. 96
B. Without access to electronic data | B. 8 health departments |  | B. 100/dataset | B. 3,200

All other information and requirements of the November 6, 2000, notice remain the same.

Dated: January 10, 2001.
Nancy E. Cheal,
Acting Associate Director for Policy, Planning and Evaluation, Centers for Disease Control and Prevention (CDC).

[FR Doc. 01-1296 Filed 1-16-01; 8:45 am]

BILLING CODE 4163-18-P